DEPARTMENT OF TRANSPORTATION

Federal Aviation Administration

14 CFR Parts 121, 125, and 135

[Docket No. FAA-2006-26135; Notice No. 06-16]

RIN 2120-AI79

Filtered Flight Data

AGENCY: Federal Aviation Administration (FAA), DOT.

ACTION: Notice of proposed rulemaking (NPRM); extension of comment period.

SUMMARY: This action extends the comment period for an NPRM published on November 15, 2006. In that document, the FAA proposed to amend the digital flight data recorder regulations by prohibiting the filtering of some original parameter sensor signals. This extension is a result of a request from The Boeing Company to extend the comment period for the NPRM.

DATES: Send your comments on the NPRM on or before April 16, 2007.

ADDRESSES: You may send comments on the NPRM or this extension [identified by Docket Number 2006-26135] using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document and the NPRM.

Privacy: We will post all comments we receive, without change, to http://dms.dot.gov, including any personal information you provide. For more information, see the Privacy Act discussion in the SUPPLEMENTARY INFORMATION section of the NPRM.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Timothy W. Shaver, Avionics Systems Branch, Aircraft Certification Service, AIR-130, Federal Aviation Administration, 800 Independence Avenue SW., Washington, DC 20591; telephone (202) 385-4686; facsimile (202) 385-4651; e-mail tim.shaver@faa.gov.

SUPPLEMENTARY INFORMATION:

Comments Invited

The FAA continues to invite interested persons to take part in this rulemaking by submitting written comments, data, or views about the NPRM. We also invite comments about the economic, environmental, energy, or federalism impacts that might result from adopting the proposals in the NPRM. The most helpful comments reference a specific portion of the NPRM, explain the reason for any recommended change, and include supporting data. We ask that you send us two copies of written comments.

Background

On November 15, 2006, the Federal Aviation Administration (FAA) published Notice No. 06-16 in the Federal Register (Filtered Flight Data, 71 FR 66634) (the NPRM). The comment period for this NPRM ends on February 13, 2007.

By letter dated January 12, 2007, The Boeing Company (Boeing) asked the FAA to extend the NPRM's comment period for sixty days. Boeing intends to submit comments that will include an assessment of those parameters that fall within the proposed definition of filtered data for each of its affected airplanes. Boeing also intends to provide cost data related to the proposed requirements to analyze in-service airplanes. Boeing states that it needs an additional sixty days to complete these assessments.

The FAA agrees with Boeing's request for an extension of the comment period. We recognize the assessments being performed by Boeing are time-consuming, but are expected to produce valuable information.

We have determined that an additional sixty days will be enough for potential commenters to collect the cost and operational data necessary to provide meaningful comments to the NPRM. Absent unusual circumstances, the FAA does not anticipate any further extension of the comment period for this NPRM.

Extension of Comment Period

In accordance with 14 CFR 11.47(c), the FAA has reviewed the petition submitted by Boeing for an extension of the comment period to the NPRM. The FAA finds that an extension of the comment period for Notice No. 06-16 is consistent with the public interest, and that good cause exists for taking this action. The FAA also has determined that Boeing has a substantive interest in the proposed rule and has shown good cause for the extension.

Accordingly, the comment period for Notice No. 06-16 is extended until April 16, 2007.

Issued in Washington, DC, on January 29, 2007.
John J. Hickey,
Director, Aircraft Certification Service.

[FR Doc. E7-1834 Filed 2-5-07; 8:45 am]

BILLING CODE 4910-13-P